ENVIRONMENTAL PROTECTION AGENCY

[EPA-HQ-OA-2019-0296; FRL-10660-01-OMS]

Agency Information Collection Activities; Submission to the Office of Management and Budget for Review and Approval; Comment Request; Procedures for Implementing the National Environmental Policy Act and Assessing the Environmental Effects Abroad of EPA Actions (Renewal)

AGENCY: Environmental Protection Agency (EPA).

ACTION: Notice.

SUMMARY: The Environmental Protection Agency (EPA) has submitted an information collection request (ICR), Procedures for Implementing the National Environmental Policy Act and Assessing the Environmental Effects Abroad of EPA Actions (EPA ICR Number 2243.10, OMB Control Number 2020-0033) to the Office of Management and Budget (OMB) for review and approval in accordance with the Paperwork Reduction Act. This is a proposed extension of the ICR, which is currently approved through February 23, 2023. Public comments were previously requested via the Federal Register on June 28, 2022, during a 60-day comment period. This notice allows for an additional 30 days for public comments.

DATES: Comments may be submitted on or before March 10, 2023.

ADDRESSES: Submit your comments to EPA, referencing Docket ID Number EPA-HQ-OA-2019-0296, online using www.regulations.gov (our preferred method), by email to oira_submission@omb.eop.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Candi Schaedle, NEPA Compliance Division, Office of Federal Activities, Mail Code 2501G, Environmental Protection Agency, 1200 Pennsylvania Ave. NW, Washington, DC 20460; telephone number: 202-564-6121; email address: schaedle.candi@epa.gov.

SUPPLEMENTARY INFORMATION: This is a proposed extension of the ICR, which is currently approved through February 23, 2023. An agency may not conduct or sponsor and a person is not required to respond to a collection of information unless it displays a currently valid OMB control number.

Public comments were previously requested via the Federal Register on June 28, 2022, during a 60-day comment period. This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The National Environmental Policy Act of 1969 (NEPA), 42 U.S.C. 4321-4347 establishes a national policy for the environment. The Council on Environmental Quality (CEQ) oversees the NEPA implementation. CEQ's Regulations at 40 CFR parts 1500 through 1508 set the standard for NEPA compliance. They also require agencies to establish their own NEPA implementing procedures. The EPA's procedures for implementing NEPA are found in 40 CFR part 6. Through this part, the EPA adopted the CEQ Regulations and supplemented those regulations for actions proposed by the EPA that are subject to NEPA requirements. The EPA actions subject to NEPA include the award of wastewater treatment construction grants under section 201 of the Clean Water Act, the EPA's issuance of new source National Pollutant Discharge Elimination System (NPDES) permits under section 402 of the Clean Water Act, certain research and development projects, the EPA actions involving renovations or new construction of EPA facilities, and certain grants awarded for projects authorized by Congress through the agency's annual appropriations act. The EPA is collecting information from certain applicants as part of the process of complying with either NEPA or Executive Order 12114 (“Environmental Effects Abroad of Major Federal Actions”). The EPA's NEPA regulations apply to actions of the EPA that are subject to NEPA in order to ensure that environmental information is available to the agency's decision-makers and the public before decisions are made and before actions are taken. When the EPA conducts an environmental assessment pursuant to its Executive Order 12114 procedures, the agency generally follows its NEPA procedures. Compliance with the procedures is the responsibility of the EPA's Responsible Officials, and for applicant proposed actions applicants may be required to provide environmental information to the EPA as part of the environmental review process. For this ICR, applicant-proposed projects subject to either NEPA or Executive Order 12114 (and that are not addressed in other EPA programs' ICRs) are addressed through the NEPA process.

Form Numbers: None.

Respondents/affected entities: Certain grant or permit applicants who must submit environmental information documentation to the EPA for their projects to comply with NEPA or Executive Order 12114, including Wastewater Treatment Construction Grants Program facilities funded under section 201 of the Clean Water Act, State and Tribal Assistance Grant recipients, and new source NPDES permittees.

Respondent's obligation to respond: Voluntary.

Estimated number of respondents: 516 (total).

Frequency of response: On occasion.

Total estimated burden: 73,800 hours (per year). Burden is defined at 5 CFR 1320.03(b).

Total estimated cost: $6,259,214 (per year), includes $0 annualized capital or operation & maintenance costs.

Changes in the Estimates: There is an increase of 66,240 hours in the total estimated respondent burden compared with the ICR currently approved by OMB. This increase is due to an adjustment change in the size of the respondent universe due to the return of congressional earmarks in the EPA annual appropriations act.

Courtney Kerwin,
Director, Regulatory Support Division.

[FR Doc. 2023-02665 Filed 2-7-23; 8:45 am]

BILLING CODE 6560-50-P